DEPARTMENT OF ENERGY

Bonneville Power Administration

Longview Energy Development Project

AGENCY: Bonneville Power Administration (BPA), Department of Energy (DOE).

ACTION: Notice of availability of Record of Decision (ROD).

SUMMARY: This notice announces the availability of the ROD to offer contract terms for integrating power from Longview Energy Development LLC (LED) into the Federal Columbia River Transmission System. This decision is based on input from public processes and information in the BPA Business Plan Environmental Impact Statement (DOE/EIS-0183, June 1995) and the Business Plan ROD (August 15, 1995). The LED project is a 290-megawatt gas-fired, combined-cycle, combustion-turbine power generation project, which will help meet the immediate need for energy resources of the region and serve as a resource to meet demand in the long term.

ADDRESSES: Copies of the LED ROD, Business Plan, and Business Plan EIS and ROD may be obtained by calling BPA's toll-free document request line: 1-800-622-4520.

FOR FURTHER INFORMATION CONTACT: Phil Smith, KEC-4, Bonneville Power Administration, P.O. Box 3621, Portland, Oregon, 97208-3621, telephone number 503-230-3294; fax number 503-230-5699; e-mail pwsmith@bpa.gov.

Issued in Portland, Oregon, on July 31, 2001.
Stephen J. Wright,
Acting Administrator and Chief Executive Officer.

[FR Doc. 01-20078 Filed 8-9-01; 8:45 am]

BILLING CODE 6450-01-P